DEPARTMENT OF THE INTERIOR

Bureau of Ocean Energy Management

[Docket No. BOEM-2024-0019]

Notice of Availability of a Joint Record of Decision for the Proposed New England Wind Project and New England Wind Offshore Export Cable Project

AGENCY: Bureau of Ocean Energy Management, Interior; National Marine Fisheries Service, National Oceanic and Atmospheric Administration, Commerce; U.S. Army Corps of Engineers, Department of the Army.

ACTION: Notice of availability; record of decision.

SUMMARY: The Bureau of Ocean Energy Management (BOEM) announces the availability of the joint record of decision (ROD) on the final Environmental Impact Statement (EIS) for the construction and operations plan (COP) submitted by Park City Wind LLC (Park City Wind) for its proposed New England Wind Project and New England Wind Offshore Export Cable Project (Project) offshore Massachusetts. The joint ROD includes the Department of the Interior's (DOI) decision regarding the New England Wind COP, the National Marine Fisheries Service's (NMFS) decision regarding Park City Wind's request for Incidental Take Regulations (ITR) and an associated Letter of Authorization (LOA) under the Marine Mammal Protection Act (MMPA), and the Department of the Army's (DA) decision regarding authorizations under section 10 of the Rivers and Harbors Act of 1899 (RHA) and section 404 of the Clean Water Act (CWA). NMFS has adopted the final EIS to support its decision of whether or not to promulgate the requested ITR and issue a LOA to Park City Wind under the MMPA. The U.S. Army Corps of Engineers (USACE) has adopted the final EIS to support its decision to issue a DA permit under section 10 of the RHA and section 404 of the CWA. The joint ROD concludes the National Environmental Policy Act (NEPA) process for each agency.

ADDRESSES: The joint ROD and associated information are available on BOEM's website at: https://www.boem.gov/renewable-energy/state-activities/new-england-wind-formerly-vineyard-wind-south.

FOR FURTHER INFORMATION CONTACT: For information related to BOEM's action, please contact Jessica Stromberg, BOEM Office of Renewable Energy Programs, 45600 Woodland Road, VAM-OREP, Sterling, Virginia 20166, (703) 787-1730 or jessica.stromberg@boem.gov. For information related to NMFS' action, contact Katherine Renshaw, National Oceanic and Atmospheric Administration (NOAA) Office of General Counsel, Environmental Review and Coordination Section, (302) 515-0324, katherine.renshaw@noaa.gov. For information related to USACE's action, contact Ruth Brien, New England District Regulatory Division, (978) 318-8054 or ruthann.a.brien@usace.army.mil.

SUPPLEMENTARY INFORMATION:

Park City Wind seeks approval to construct, operate, and maintain a wind energy facility and its associated export cables on the Outer Continental Shelf (OCS) offshore Massachusetts, Rhode Island, and New York. The Project would be developed within the range of design parameters outlined in the New England Wind COP, subject to the applicable mitigation measures.

The Project as proposed in the COP would be developed in two phases. The entire Project would include up to a combined maximum 130 positions for wind turbine generators (WTGs) and electrical service platforms (ESPs), inter-array and inter-link cables connecting the individual WTGs and ESPs, five offshore export cables (two for phase I and three for phase II), onshore substations, and interconnection cables connecting to the existing electrical grid in Massachusetts.

The WTGs, offshore substation, and inter-array cables would be located on the OCS approximately 32 kilometers (km) (20 miles (mi)) south of Martha's Vineyard and approximately 38 km (24 mi) southwest of Nantucket, within the area defined by Renewable Energy Lease OCS-A 0534. The Project would be adjacent to the Vineyard Wind 1 (VW1) project (OCS-A 0501). The EIS evaluates the potential to utilize currently unused positions of the VW1 project that VW1 could assign to the Project. The offshore export cables would be buried below the seabed surface on the OCS and State of Massachusetts-owned submerged lands. The onshore export cables, substations, and grid connections would be located in Barnstable County, MA, with the possibility of a landing site in Bristol County, MA.

BOEM considered 15 alternatives when preparing the draft EIS and carried forward three alternatives for further analysis in the final EIS. These three alternatives include the proposed action, one action alternative, and the no action alternative. After carefully considering public comments on the draft EIS and the alternatives described and analyzed in the final EIS, DOI selected a combination of the Habitat Minimization Alternative (Alternative C-1) and the Proposed Action (Alternative B). This combination would limit the installation of export cables to the Eastern Muskeget route or minimize installation of export cables to only one in the Western Muskeget route, as described in the Preferred Alternative in the final EIS.

The anticipated mitigation, monitoring, and reporting requirements, which will be included in BOEM's COP approval as terms and conditions, are included in the ROD, which is available on BOEM's website at: https://www.boem.gov/renewable-energy/state-activities/new-england-wind-formerly-vineyard-wind-south.

NMFS has adopted BOEM's final EIS to support its decision of whether or not to promulgate the requested ITR and issue the associated LOA to Park City Wind. NMFS' final decision of whether or not to promulgate the requested ITR and issue the LOA will be documented in a separate Decision Memorandum prepared in accordance with internal NMFS policy and procedures. The final ITR and a notice of issuance of the LOA, if issued, will be published in the Federal Register. The LOA would authorize Park City Wind to take a small number of marine mammals incidental to Project construction and would set forth permissible methods of incidental taking; means of effecting the least practicable adverse impact on the species and its habitat; and requirements for monitoring and reporting. Pursuant to section 7 of the Endangered Species Act, NMFS issued a final Biological Opinion to BOEM on February 16, 2024, evaluating the effects of the proposed action on ESA-listed species. The proposed action in the opinion includes the associated permits, approvals, and authorizations that may be issued.

USACE has decided to adopt BOEM's final EIS and issue permits to Park City Wind pursuant to section 10 of the RHA and section 404 of the CWA. The USACE permits may authorize Park City Wind to discharge fill below the high tide line of waters of the United States. They may also authorize Park City Wind to perform work and place structures below the mean high water mark of navigable waters of the United States and to affix structures to the seabed on the OCS.

Authority: National Environmental Policy Act of 1969, as amended, (42 U.S.C. 4321 et seq.); 40 CFR 1505.2.

Karen Baker,
Chief, Office of Renewable Energy Programs, Bureau of Ocean Energy Management.

[FR Doc. 2024-07436 Filed 4-8-24; 8:45 am]

BILLING CODE 4340-98-P